DEPARTMENT OF HOMELAND SECURITY

U.S. Customs and Border Protection

[Docket No. USCBP-2015-0057]

Advisory Committee on Commercial Operations to U.S. Customs and Border Protection (COAC)

AGENCY: U.S. Customs and Border Protection, Department of Homeland Security (DHS).

ACTION: Committee Management; Notice of Federal Advisory Committee Meeting.

SUMMARY: The Advisory Committee on Commercial Operations to U.S. Customs and Border Protection (COAC) will meet on January 13, 2016, in New Orleans, LA. The meeting will be open to the public.

DATES: The Advisory Committee on Commercial Operations to U.S. Customs and Border Protection (COAC) will meet on Wednesday, January 13, 2016, from 1:00 p.m. to 4:00 p.m. CST. Please note that the meeting may close early if the committee has completed its business.

Pre-Registration: Meeting participants may attend either in person or via webinar after pre-registering using a method indicated below:

For members of the public who plan to attend the meeting in person, please register either online at https://apps.cbp.gov/te_reg/index.asp?w=53; by email to tradeevents@dhs.gov; or by fax to (202) 325-4290 by 5:00 p.m. EST by January 11, 2016. You must register prior to the meeting in order to attend the meeting in person.

For members of the public who plan to participate via webinar, please register online at https://apps.cbp.gov/te_reg/index.asp?w=54; by 5:00 p.m. EST by January 11, 2016. Feel free to share this information with other interested members of your organization or association.

Members of the public who are pre-registered and later require cancellation, please do so in advance of the meeting by accessing one (1) of the following links: https://apps.cbp.gov/te_reg/cancel.asp?w=53; to cancel an in person registration, or https://apps.cbp.gov/te_reg/cancel.asp?w=54; to cancel a webinar registration.

ADDRESSES: The meeting will be held at the U.S. Customs House, 423 Canal Street, Conference Room Number 316, New Orleans, LA 70130. Please allow time to go through the security check point before the meeting. There will be signage posted directing visitors to the location of the conference room.

For information on facilities or services for individuals with disabilities or to request special assistance at the meeting, contact Ms. Wanda Tate, Office of Trade Relations, U.S. Customs and Border Protection at (202) 344-1661 as soon as possible.

To facilitate public participation, we are inviting public comment on the issues to be considered by the committee prior to the formulation of recommendations as listed in the “Agenda” section below.

Comments must be submitted in writing no later than January 6, 2016, and must be identified by Docket No. USCBP-2015-0057, and may be submitted by one of the following methods:

• Federal eRulemaking Portal: http://www.regulations.gov. Follow the instructions for submitting comments.

• Email: Tradeevents@dhs.gov. Include the docket number in the subject line of the message.

• Fax: (202) 325-4290.

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov. Please do not submit personal information to this docket.

Docket: For access to the docket or to read background documents or comments, go to http://www.regulations.gov and search for Docket Number USCBP-2015-0057. To submit a comment, see the link on the Regulations.gov Web site for “How do I submit a comment?” located on the right hand side of the main site page.

There will be multiple public comment periods held during the meeting on January 13, 2016. Speakers are requested to limit their comments to two (2) minutes or less to facilitate greater participation. Contact the individual listed below to register as a speaker. Please note that the public comment period for speakers may end before the time indicated on the schedule that is posted on the CBP Web page, http://www.cbp.gov/trade/stakeholder-engagement/coac, at the time of the meeting.

FOR FURTHER INFORMATION CONTACT: Ms. Wanda Tate, Office of Trade Relations, U.S. Customs and Border Protection, 1300 Pennsylvania Avenue NW., Room 3.5A, Washington, DC 20229; telephone (202) 344-1440; facsimile (202) 325-4290.

SUPPLEMENTARY INFORMATION: Notice of this meeting is given under the Federal Advisory Committee Act, 5 U.S.C. Appendix. The Advisory Committee on Commercial Operations to U.S. Customs and Border Protection (COAC) provides advice to the Secretary of Homeland Security, the Secretary of the Treasury, and the Commissioner of U.S. Customs and Border Protection (CBP) on matters pertaining to the commercial operations of CBP and related functions within the Department of Homeland Security and the Department of the Treasury.

Agenda

The Advisory Committee on Commercial Operations to U.S. Customs and Border Protection (COAC) will discuss the Trade Efficiency Survey and hear from the following subcommittees on the topics listed below and then will review, deliberate, provide observations, and formulate recommendations on how to proceed on those topics:

1. The Trade Modernization Subcommittee will discuss the progress of the Centers of Excellence and Expertise Uniformity (“Centers”) Working Group. The subcommittee will provide an update on their review of the original COAC recommendations for Centers and what areas they have identified for Centers to develop uniform policies, processes and strategies, with consideration of an industry-focused and account-based approach. The subcommittee will also discuss the progress of the International Engagement and Trade Facilitation Working Group which is identifying examples of best practices in the U.S. and abroad that facilitate trade and could be applied globally. Additionally, the subcommittee will also discuss the formation of a Role of the Broker 2016 working group to provide updated recommendations for revising 19 CFR 111.

2. The Exports Subcommittee Manifest Working Group will discuss the upcoming Air Manifest Pilot and the refocusing/renewal of the Post Departure Filing Working Group (formally Option 4 workgroup).

3. The One U.S. Government Subcommittee will discuss progress of the Automated Commercial Environment (ACE) Single Window effort and the previous COAC recommendations related to this matter. The subcommittee will provide input on trade readiness and partner government agencies' readiness for the upcoming February 28, 2016, ACE implementation of the Single Window. There will also be an update from the North American Single Window Vision Working Group.

4. The Trade Enforcement and Revenue Collection Subcommittee will discuss the progress made on the Intellectual Property Rights Working Group and the Antidumping and Countervailing Duty Working Group, and outline the plans for the Bond Working Group.

5. The Global Supply Chain Subcommittee will review and discuss recommendations related to the Pipeline Working Group and also provide an update on pilot discussions with industry.

6. The Trusted Trader Subcommittee will report on the status of the Trusted Trader Pilot, the next steps for implementation, and the vision of an enhanced Trusted Trader concept that includes engagement with CBP to include relevant partner government agencies with a potential for international interoperability.

Meeting materials will be available by January 6, 2016, at: http://www.cbp.gov/trade/stakeholder-engagement/coac/coac-public-meetings.

Maria Luisa Boyce,
Senior Advisor for Private Sector Engagement, Office of Trade Relations.

[FR Doc. 2015-32424 Filed 12-23-15; 8:45 am]

BILLING CODE 9111-14-P